DEPARTMENT OF COMMERCE

National Oceanic and Atmospheric Administration

[I.D. 050605C]

Marine Mammals; File No. 1042-1736

AGENCY: National Marine Fisheries Service (NMFS), National Oceanic and Atmospheric Administration (NOAA), Commerce.

ACTION: Issuance of permit.

SUMMARY: Notice is hereby given that Animal Training and Research, International, Moss Landing Marine Laboratories, 8272 Moss Landing Road, Moss Landing, CA 95039, (Jenifer Hurley, Ph.D., Principal Investigator) has been issued a permit to obtain up to four stranded, releasable California sea lions (Zalophus californianus) and up to two stranded, releasable Pacific harbor seals (Phoca vitulina) for the purpose of public display.

ADDRESSES: The permit and related documents are available for review upon written request or by appointment in the following office(s):

Permits, Conservation and Education Division, Office of Protected Resources, NMFS, 1315 East-West Highway, Room 13705, Silver Spring, MD 20910; phone (301)713-2289; fax (301)427-2521; and

Southwest Region, NMFS, 501 West Ocean Blvd., Suite 4200, Long Beach, CA 90802-4213; phone (562)980-4001; fax (562)980-4018.

FOR FURTHER INFORMATION CONTACT: Jennifer Skidmore or Amy Sloan, (301)713-2289.

SUPPLEMENTARY INFORMATION: On March 18, 2004, notice was published in the Federal Register (69 FR 12836) that a request for a public display permit to obtain up to four stranded, releasable California sea lions and up to two stranded, releasable Pacific harbor seals had been submitted by the above-named organization. The requested permit has been issued under the authority of the Marine Mammal Protection Act of 1972, as amended (16 U.S.C. 1361 et seq.), and the Regulations Governing the Taking and Importing of Marine Mammals (50 CFR part 216).

The NOAA environmental review procedure provides that public display permits are generally categorically excluded from the National Environmental Policy Act of 1969 (NEPA; 42 U.S.C. 4321 et seq.) requirements to prepare an environmental assessment (EA) or environmental impact statement (EIS). However, because of the public interest and comments on this application during the public comment period, NMFS determined that an EA was warranted. An EA was prepared on the issuance of the proposed permit, resulting in a finding of no significant impact.

Dated: May 19, 2005.
Stephen L. Leathery,
Chief, Permits, Conservation and Education Division, Office of Protected Resources, National Marine Fisheries Service.

[FR Doc. 05-10457 Filed 5-24-05; 8:45 am]

BILLING CODE 3510-22-S